DEPARTMENT OF ENERGY

Federal Energy Regulatory Commission

Combined Notice of Filings # 1

June 8, 2006.

Take notice that the Commission received the following electric rate filings:

Docket Numbers: ER01-3001-015.

Applicants: New York Independent System Operator, Inc.

Description: New York ISO submits its Tenth Biannual Compliance Report on Demand Response Programs and the Addition of New Generation, pursuant to Commission's 10/25/01 order.

Filed Date: 6/1/2006.

Accession Number: 20060601-5041.

Comment Date: 5 p.m. Eastern Time on Thursday, June 22, 2006.

Docket Numbers: ER06-191-003: ER06-193-003.

Applicants: ISO New England Inc.; New England Participating Transmission Owners; Maine Electric Power Company; New England Power Pool Participants Committee.

Description: ISO New England, Inc et al submit an errata to correct the inadvertent omissions of its 5/15/06 filing.

Filed Date: 6/1/2006.

Accession Number: 20060607-0075.

Comment Date: 5 p.m. Eastern Time on Thursday, June 22, 2006.

Docket Numbers: ER06-730-001.

Applicants: Midwest Independent Transmission System Operator, Inc.

Description: Midwest Independent Transmission System Operator Inc. submits proposed revisions to Section 39.2.12 of its OAT&EM Tariff, Third Revised Volume No. 1.

Filed Date: 5/31/2006.

Accession Number: 20060607-0074.

Comment Date: 5 p.m. Eastern Time on Wednesday, June 21, 2006.

Docket Numbers: ER06-864-001.

Applicants: Bear Energy LP.

Description: Bear Energy LP submits a notification to FERC that it has entered into an energy management agreement with LSP Gen Finance Co, LLC in accordance with Order 652.

Filed Date: 6/1/2006.

Accession Number: 20060607-0073.

Comment Date: 5 p.m. Eastern Time on Thursday, June 22, 2006.

Docket Numbers: ER06-882-001.

Applicants: Bayside Power L.P.

Description: Bayside Power LP submits revised tariff sheets containing the appropriate headers and footers as required by Order 614.

Filed Date: 6/1/2006.

Accession Number: 20060607-0072.

Comment Date: 5 p.m. Eastern Time on Wednesday, June 14, 2006.

Docket Numbers: ER06-894-001.

Applicants: Entergy Services, Inc.

Description: Entergy Services, Inc submits an errata to its 4/27/06 filing to include cover sheets with appropriate rate schedule designations for Prescott's Network Operating Agreement and Network Integration Transmission Service Agreement.

Filed Date: 5/31/2006.

Accession Number: 20060607-0071.

Comment Date: 5 p.m. Eastern Time on Wednesday, June 21, 2006.

Docket Numbers: ER06-976-001.

Applicants: West Penn Power Company; Monongahela Power Company; The Potomac Edison Company.

Description: West Penn Power Company submits an amended notice of cancellation of Allegheny Power's Power Interchange and Resale Agreement with American Municipal Power-Ohio, Rate Schedule No. 50, et al.

Filed Date: 6/1/2006.

Accession Number: 20060601-5006.

Comment Date: 5 p.m. Eastern Time on Thursday, June 22, 2006.

Docket Numbers: ER06-981-000.

Applicants: West Penn Power Company; Monongahela Power Company; The Potomac Edison Company.

Description: West Penn Power Company, et al submit a request to withdraw it Notice of Cancellation filed 5/8/06 in reference to a Power Interchange and Resale Agreement with American Municipal Power-Ohio.

Filed Date: 5/18/2006.

Accession Number: 20060518-5014.

Comment Date: 5 p.m. Eastern Time on Thursday, June 8, 2006.

Docket Numbers: ER06-1050-000; ER06-1036-000; ER06-1037-000; ER06-1095-000.

Applicants: RockGen OL-1, LLC; RockGen OL-2, LLC, RockGen OL-3, LLC, RockGen OL-4.

Description: RockGen OL-1, LLC et al submits an application for order authorizing market-based rates, waivers and blanket authorizations and request for expedited action.

Filed Date: 5/26/2006.

Accession Number: 20060607-0070.

Comment Date: 5 p.m. Eastern Time on Friday, June 16, 2006.

Docket Numbers: ER06-1062-000.

Applicants: Pacific Gas and Electric Company.

Description: Pacific Gas and Electric Co submits modifications to and subsequent cancellation of Minnesota Methane's Service Agreement for Firm Point-to-Point Transmission Service.

Filed Date: 5/31/2006.

Accession Number: 20060607-0069.

Comment Date: 5 p.m. Eastern Time on Wednesday, June 21, 2006.

Docket Numbers: ER06-1063-000.

Applicants: Xcel Energy Services Inc.; Southwestern Public Service Company.

Description: Xcel Energy Services, Inc on behalf of Southwestern Public Service Corp submits a Connection Agreement with Golden Spread Electric Cooperative, Inc pursuant to Order 614.

Filed Date: 6/1/2006.

Accession Number: 20060607-0068.

Comment Date: 5 p.m. Eastern Time on Thursday, June 22, 2006.

Docket Numbers: ER06-1064-000.

Applicants: California Independent System Operator Corporation

Description: California Independent System Operator Corp submits an informational filing regarding the revised Transmission Access Charges effective 3/1/06.

Filed Date: 6/1/2006.

Accession Number: 20060607-0067.

Comment Date: 5 p.m. Eastern Time on Thursday, June 22, 2006.

Docket Numbers: ER06-1065-000.

Applicants: Northeast Utilities Service Company.

Description: Northeast Utilities Service Co on behalf of operating companies, The Connection Light & Power Co et al submits amendments to and service agreement under Schedule 21-NU to Section II of ISO New England, Inc Transmission, Markets and Services Tariff.

Filed Date: 5/31/2006.

Accession Number: 20060607-0078.

Comment Date: 5 p.m. Eastern Time on Wednesday, June 21, 2006.

Docket Numbers: ER06-1066-000.

Applicants: American Electric Power Service Corporation; Indiana Michigan Power Company.

Description: The American Electric Power Service Corp as agent for its affiliate Indiana & Michigan Power Co submits an original interconnection and local delivery service agreement with the City Bluffton, Indiana.

Filed Date: 6/1/2006.

Accession Number: 20060607-0076.

Comment Date: 5 p.m. Eastern Time on Thursday, June 22, 2006.

Docket Numbers: ER06-1067-000.

Applicants: American Electric Power Service Corporation; Indiana Michigan Power Company.

Description: The American Electric Power Service Corp as agent for its affiliate Indiana & Michigan Power Co submits an original interconnection and local delivery service agreement with the City of Mishawaka, Indiana.

Filed Date: 6/1/2006.

Accession Number: 20060607-0077.

Comment Date: 5 p.m. Eastern Time on Thursday, June 22, 2006.

Docket Numbers: ER06-1068-000.

Applicants: Indiana Michigan Power Company; American Electric Power Service Corporation.

Description: Indiana Michigan Power Co submits a Cost-Based Formula Rate Agreement for Full Requirements Electric Service with the City of Avilla, Indiana.

Filed Date: 6/1/2006.

Accession Number: 20060607-0079.

Comment Date: 5 p.m. Eastern Time on Thursday, June 22, 2006.

Docket Numbers: ER06-1069-000.

Applicants: Midwest Independent Transmission System Operator, Inc.

Description: Midwest Independent Transmission System Operator, Inc submits proposed revisions to the Schedule 24-A of its OAT&EM Tariff, Third Revised Volume No. 1.

Filed Date: 6/1/2006.

Accession Number: 20060607-0066.

Comment Date: 5 p.m. Eastern Time on Thursday, June 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9370 Filed 6-15-06; 8:45 am]

BILLING CODE 6717-01-P